DEPARTMENT OF COMMERCE

Patent and Trademark Office

Agency Information Collection Activities; Submission to the Office of Management and Budget (OMB) for Review and Approval; Comment Request; Patents for Humanity Program

The United States Patent and Trademark Office (USPTO) will submit the following information collection request to the Office of Management and Budget (OMB) for review and clearance in accordance with the Paperwork Reduction Act of 1995, on or after the date of publication of this notice. The USPTO invites comment on this information collection renewal, which helps the USPTO assess the impact of its information collection requirements and minimize the public's reporting burden. Public comments were previously requested via the Federal Register on November 30, 2021 during a 60-day comment period. This notice allows for an additional 30 days for public comments.

Agency: United States Patent and Trademark Office, Department of Commerce.

Title: Patents for Humanity Program.

OMB Control Number: 0651-0066.

Needs and Uses: Since 2012, the United States Patent and Trademark Office (USPTO) has conducted the Patents for Humanity Program, an annual award program to incentivize the distribution of patented technologies or products for the purpose of addressing humanitarian needs. The program is open to any patent owners or patent licensees, including inventors who have not assigned their ownership rights to others, assignees, and exclusive or non-exclusive licenses. USPTO collects information from applicants that describe what actions they have taken with their patented technology to address the welfare of impoverished populations, or how they furthered research by others on technologies for humanitarian purposes. There are numerous categories of awards including: Medicine, Nutrition, Sanitation, Household Energy, and Living Standards. Sometimes the program includes additional categories specific for that year, for example COVID-19. This information collection covers two application forms for the Patents for Humanity Program. The first application covers the humanitarian uses of technologies or products, and the second application covers humanitarian research. In both, applicants are required to describe how their technology or product satisfies the program criteria to address humanitarian issues. Additionally, applicants must provide non-public contact information in order for USPTO to notify them about their award status. Applicants may optionally provide contact information for the public to reach them with any inquiries. Applications must be submitted via email and will be posted on USPTO's website. Qualified judges from outside USPTO will review and score the applications. USPTO will then forward the top-scoring applications to reviewers from participating Federal agencies to recommend award recipients. Winners are invited to participate in an awards ceremony at USPTO. Those applications that are chosen for an award will receive a certificate redeemable to accelerate select matters before USPTO. The certificates can be redeemed to accelerate one of the following matters: An ex parte reexamination proceeding, including one appeal to the Patent Trial and Appeal Board (PTAB) from that proceeding; a patent application, including one appeal to the PTAB from that application; or an appeal to the PTAB of a claim twice rejected in a patent application or reissue application or finally rejected in an ex parte reexamination, without accelerating the underlying matter which generated the appeal. This information collection also covers the information gathered in petitions to extend an acceleration certificate redemption beyond 12 months. Finally, winners are now able to transfer their certificates to third parties, including by sale, due to the January 2021 passage of the Patents for Humanity Program Improvement Act.

Form Numbers:

• PTO/PFH/001 (Patents for Humanity Competition: Humanitarian Use Application)

• PTO/PFH/002 (Patents for Humanity Competition: Research Use Application)

• PTO/SB/431 (Patents for Humanity Competition: Petition to Extend Redemption)

Type of Review: Extension and revision of a currently approved information collection.

Affected Public: Private sector; individuals or households; state, local, and tribal governments; and Federal government.

Respondent's Obligation: Voluntary.

Frequency: On occasion.

Estimated Number of Annual Respondents: 115 respondents.

Estimated Number of Annual Responses: 115 responses.

Estimated Time per Response: The USPTO estimates that the responses in this information collection will take the public 30 minutes to 4 hours to complete. This includes the time to gather the necessary information, create the document, and submit the completed request to the USPTO.

Estimated Total Annual Respondent Burden Hours: 428 hours.

Estimated Total Annual Respondent Non-Hourly Cost Burden: $0.

This information collection request may be viewed at www.reginfo.gov. Follow the instructions to view Department of Commerce, USPTO information collections currently under review by OMB.

Written comments and recommendations for this information collection should be submitted within 30 days of the publication of this notice on the following website www.reginfo.gov/public/do/PRAMain. Find this particular information collection by selecting “Currently under 30-day Review—Open for Public Comments” or by using the search function and entering either the title of the information collection or the OMB Control Number 0651-0066.

Further information can be obtained by:

• Email: InformationCollection@uspto.gov. Include “0651-0066 information request” in the subject line of the message.

• Mail: Kimberly Hardy, Office of the Chief Administrative Officer, United States Patent and Trademark Office, P.O. Box 1450, Alexandria, VA 22313-1450.

Kimberly Hardy,
Information Collections Officer, Office of the Chief Administrative Officer, United States Patent and Trademark Office.

[FR Doc. 2022-03513 Filed 2-17-22; 8:45 am]

BILLING CODE 3510-16-P